FEDERAL HOUSING FINANCE AGENCY

12 CFR Part 1232

RIN 2590-AA42

Incentive-Based Compensation Arrangements

AGENCY: Federal Housing Finance Agency.

ACTION: Notice of Proposed Rulemaking and Request for Comment; Correction.

SUMMARY: This document corrects a typographical error to the “Dated:” line of the Federal Housing Finance Agency's (FHFA) signatory block of the Notice of Proposed Rulemaking and Request for Comment (Proposed Rule) issued jointly by the Office of the Comptroller of the Currency, Board of Governors of the Federal Reserve System, Federal Deposit Corporation, National Credit Union Administration, FHFA, and the U.S. Securities Exchange Commission. The Proposed Rule was published in the Federal Register on Friday, June 10, 2016 (FR Doc. 2016-11788; 81 FR 37669), and concerned Incentive-based Compensation Arrangements.

FOR FURTHER INFORMATION CONTACT: Mary Pat Fox, Manager, Executive Compensation Branch, (202) 649-3215; or Lindsay Simmons, Assistant General Counsel, (202) 649-3066, Federal Housing Finance Agency, 400 7th Street SW., Washington, DC 20219. The telephone number for the Telecommunications Device for the Hearing Impaired is (800) 877-8339.

Need for Correction

In the Federal Register of Friday, June 10, 2016, FR Doc. 2016-11788, on page 37838, in the third column, the “Dated:” line of the Federal Housing Finance Agency signatory block is corrected to read as “April 26, 2016.”

Dated: June 22, 2016.
Melvin L. Watt,
Director, Federal Housing Finance Agency.

[FR Doc. 2016-15596 Filed 7-1-16; 8:45 am]

BILLING CODE 8070-01-P